CORPORATION FOR NATIONAL AND COMMUNITY SERVICE

Sunshine Act Notice

The Board of Directors of the Corporation for National and Community Service gives notice of the following meeting:

Date and Time: Tuesday, September 24, 2002, 9:30 a.m.-12:30 p.m.

Place: Corporation for National and Community Service, 1201 New York Avenue, NW., 8th Floor, Room 8410, Washington, DC 20525.

Status: Open.

Matters to be Considered:

I. Chair's Opening Remarks

II. Consideration of Prior Meeting's Minutes

III. Committee Reports and Discussion Concerning Various Items:

USA Freedom Corps Update

Reauthorization and 2003 Budget 2003 Program Guidelines

Agency's 2003 Performance Goals

IV. Consideration of Grant Approval Delegation

V. Presentations Concerning Homeland Security Grants

American Red Cross

Mercy Medical Airlift

City of Tulsa, Oklahoma

Others

Accommodations: Anyone who needs an interpreter or other accommodation should notify the Corporation's contact person.

Contact Person for More Information: Michele Tennery, Senior Associate, Public Affairs, Corporation for National and Community Service, 8th Floor, Room 8601, 1201 New York Avenue NW., Washington, DC 20525. Phone (202) 606-5000 ext. 125. Fax (202) 565-2784. TDD: (202) 565-2799. e-mail: mtennery@cns.gov.

Dated: September 13, 2002.
Frank R. Trinity,
General Counsel, Corporation for National and Community Service.

[FR Doc. 02-23773 Filed 9-13-02; 4:19 pm]

BILLING CODE 6050-$$-P